DEPARTMENT OF COMMERCE

National Oceanic and Atmospheric Administration

[ID. 012904A]

Fisheries Off West Coast States and in the Western Pacific; Pacific Coast Groundfish Fishery; Application for an Exempted Fishing Permit

AGENCY: National Marine Fisheries Service (NMFS), National Oceanic and Atmospheric Administration (NOAA), Commerce.

ACTION: Notice of the Receipt an exempted fishing permit application, announcement of the intent to issue the EFP, request for comments.

SUMMARY: NMFS announces the receipt of an exempted fishing permit (EFP) application from the Oregon Department of Fish and Wildlife (ODFW). If awarded, this EFP will allow qualifying vessels to harvest and retain federally managed groundfish in excess of cumulative trip limits. This is otherwise prohibited. Vessels fishing under this EFP will be required to carry a federal fisheries observer during all EFP fishing. This EFP proposal is intended to promote the objectives of the Pacific Coast Groundfish Fishery Management Plan (FMP) by assessing the effectiveness of a new discard reduction strategy for the trawl fishery.

DATES: Comments must be received by February 23, 2004.

ADDRESSES: Copies of the EFP application are available from Becky Renko Northwest Region, NMFS, 7600 Sand Point Way N.E., Bldg. 1, Seattle, WA 98115-0070.

FOR FURTHER INFORMATION CONTACT: Becky Renko (206)526-6150.

SUPPLEMENTARY INFORMATION: This action is authorized by the FMP and implementing regulations at 50 CFR 600.745 and 50 CFR 660.350.

Dover sole, shortspine thornyhead, longspine thornyhead, and sablefish (DTS complex) are abundant and important upper continental slope species in the Pacific Coast groundfish fishery. Reductions in cumulative catch limits (trip limits) for the DTS complex in recent years have created strong incentives for vessels to high-grade their catch (keep only the most valuable fish) to maximize its value. In addition, differences between trip limits for the different DTS species may not accurately reflect the true ratios of the species that actually occur in the catch of the individual vessels. This could result in one species being discarded, because the trp limits of that species have been reached, while the vessel continues to fish for another species in the DTS complex. When the trip limits are reduced or when the ratios between species do not reflect what is actually harvested very high levels of discarded catch can result. An experimental research project conducted by ODFW in 2003 suggests that discarded catch levels can be reduced by redefining market categories and the associated price structure.

The purpose of the proposed exempted fishing activity is to collect data that can be used to examine the feasability of using a new discard-reduction strategy as a management tool for the DTS complex trawl fishery. Written agreements between the vessel, processors and the State of Oregon will be used to redefine existing market categories for the DTS species; to create an EFP price for each redefined category of marketable DTS species; and to require the full retention of all marketable Dover sole and sablefish and all rockfish (Sebastes and Sebastolobus). Modest economic benefits to the participating vessels and processors are anticipated. If this EFP is successful, these benefits are expected to create an economic incentive that will encourage further development of this discard reduction approach.

Three vessels from three different ports along the Oregon coast will be used to fish under this EFP. The EFP fishing will occur from March to June 2004. Because this EFP applies to vessels using large footrope trawl gear, all depth restrictions and cumulative limits restrictions specific to the use of large footrope trawl gear as announced in the Federal Register will apply to the EFP fishing. Vessels will be required to all marketable Dover sole and sablefish and all rockfish (including thornyheads). The proceeds from the sale of DTS species in excess of the EFP limits and non-DTS species that are retained in excess of cumulative trip limits as published in the Federal Register will be forfeited to the state of Oregon.

During the effective dates of the EFP, participating vessels must carry a federal fisheries observer whenever they fish under the EFP. Observers will collect data from which the composition of discarded and landed catch can be estimated and they will assure that all rockfish are being retained by the participating vessel.

The total amount (discard plus retained) of Dover sole allowed to be taken under this EFP is not expected to exceed 125 metric tons(mt), the total amount (discard plus retained) of shortspine thornyhead allowed to be taken under this EFP is not expected to exceed 122 mt. The total amount (discard plus retained) of longspine thornyhead allowed to be taken under this EFP is not expected to exceed 63 mt and the total amount (discard plus retained) of sablefish taken under this permit is not expected to exceed 367 mt.

The EFP fishing will be constrained by the following EFP limits for overfished species: yelloweye rockfish 1.2 mt, canary rockfish 0.1 mt, lingcod 0.2 mt, widow rockfish 0 mt, Pacific whiting 145 mt, darkblotch rockfish 6.0 mt, and POP 23 mt. If the total catch of any one of these species reaches the EFP limits, the EFP will be terminated for the remainder of the 2004 fishing year.

All EFP harvests of overfished species are expected to be within the EFP set-asides within the OYs specified for 2004. The harvests of other groundfish species also are expected to be within the Optimum Yields (OYs) specified for 2004. Therefore, no groundfish OY is expected to be exceeded as a result of this EFP fishing. At the Pacific Fishery Management Council's (Council) November 2003, meeting in Del Mar, CA, the applicants presented their EFP application to the Council. The Council considered the application and recommended that NMFS issue the EFP for the proposed activity. Data collected during this project are expected to have a broad significance to the management of the groundfish fishery by providing information that can be used to examine the feasability of using this new discard reduction strategy in the trawl fishery for the DTS complex. The information gathered through this EFP may lead to future rulemakings. Copies of the applications are available for review from NMFS (see ADDRESSES).

Dated: February 2, 2004.
Peter H. Fricke,
Acting Director, Office of Sustainable Fisheries, National Marine Fisheries Service.

[FR Doc. 04-2631 Filed 2-5-04; 8:45 am]

BILLING CODE 3510-22-S